DEPARTMENT OF HEALTH AND HUMAN SERVICES

Administration for Children and Families

[Notice of Program Announcement No. ACF/ACYF/HS 2001-05]

Fiscal Year 2001 Discretionary Announcement for Nationwide Expansion Competition of Early Head Start; Availability of Funds and Request for Applications

AGENCY: Administration on Children, Youth and Families (ACYF), Administration for Children and Families (ACF), DHHS

ACTION: Notice of Fiscal Year 2001 Early Head Start availability of financial assistance for nationwide expansion and request for applications.

SUMMARY: The Administration on Children, Youth and Families announces approximately $47 million in financial assistance to be competitively awarded to local public and private non-profit and for-profit entities—including Early Head Start and Head Start grantees—to provide child and family development services for low-income families with children under age three and pregnant women. Early Head Start programs provide early, continuous, intensive and comprehensive child development and family support services on a year-round basis to low-income families. The purpose of the Early Head Start program is to enhance children's physical, social, emotional, and intellectual development; to support parents' efforts to fulfill their parental roles; and to help parents move toward self-sufficiency.

Funds will be competitively awarded under this Notice to increase the number of children and families served by the Early Head Start program. There are a number of benefits that accrue to communities when new Early Head Start services are initiated and ACYF wishes to reach as many different communities as possible. Therefore, in selecting successful applicants, ACYF will give priority to agencies that are proposing to provide services in communities that are not currently served by Early Head Start.

Current Early Head Start grantees may apply to provide services in communities that are not currently served by Early Head Start and may also apply to increase the number of children served within their current EHS service area. Any other applicants may apply to establish an Early Head Start program in an area which is currently unserved (see Appendix A for the list of geographic areas currently being served and unavailable for new grantees).

DATES: The closing date and time for receipt of applications is 5 p.m. EDT on May 7, 2001.

Note: Applications should be submitted to the ACYF Operations Center at: 1815 N. Fort Myer Drive, Suite 300, Arlington, VA 22209. However, prior to preparing and submitting an application, in order to satisfactorily compete under this announcement, it will be necessary for potential applicants to read the full announcement which is available through the addresses listed below.

ADDRESSES: A copy of the program announcement, necessary application forms, and appendices can be obtained by contacting: Early Head Start, ACYF Operations Center, 1815 North Fort Myer Drive, Suite 300, Arlington, Virginia 22209. The telephone number is 1-800-351-2293 or email to: ehs@lcgnet.com.

Copies of the program announcement and necessary application forms can be downloaded from the Head Start web site at: www.acf.dhhs.gov/programs/hsb.

FOR FURTHER INFORMATION CONTACT: ACYF Operations Center at: 1815 N. Fort Myer Drive, Suite 300, Arlington, VA 22209 or telephone: 1-800-351-2293 or email to: ehs@lcgnet.com.

SUPPLEMENTARY INFORMATION: Eligible Applicants: Applicants eligible to apply to become an Early Head Start program are local public and private non-profit and for-profit entities. Early Head Start and Head Start grantees are eligible to apply. Applicants are reminded that eligibility to apply for a grant under this Notice is limited to local agencies, as defined in Section 641(a) and (b) of the Head Start Act.

Project Duration: For new Early Head Start grantees, the competitive awards made through this announcement will be for one-year budget periods and an indefinite project period. Subsequent year budget awards will be made non-competitively, subject to availability of funds and the continued satisfactory performance of the applicant. However, any current Early Head Start grantee that is successful in this competition will not be funded for an indefinite project period, but rather will be given a supplement to its current, time limited grant. A grantee, for example, currently funded for $200,000 with a project period ending September 30, 2002, that is awarded another $100,000 through this announcement will then be funded as a $300,000 Early Head Start grantee with a project period that still ends on September 30, 2002. This will be true regardless of whether the new funds are to expand services within the grantee's current service area or to expand into another currently unserved area. Prior to the end of an Early Head Start grantee's current project period (i.e., September 30, 2002, in the above example), ACF will announce a competition for those areas served by each EHS grantee whose project period is nearing an end. In such a competition, current EHS grantees in good standing, who submit acceptable applications, will be given priority in funding decisions.

Federal Share of Project Costs: In most cases, the Federal share will not be more than 80 percent of the total approved costs of the project.

Matching Requirements: Grantees that operate Early Head Start programs must, in most instances, provide a non-Federal contribution of at least 20 percent of the total approved costs of the project.

Available Funds: See Appendix B for the list of the approximate amount of funds available for States. These estimates have been developed based primarily on: (1) the statutory formula that determines the distribution of all Head Start program funds among the States, and (2) the existing distribution of funds. Applicants will compete against all other applicants proposing to provide EHS services in the same State or multi-State pool. Applicants that are Tribal Governments of federally recognized Indian Reservations (or their designees) will compete against each other.

Anticipated Number of Projects to be Funded: It is estimated that there will be 100-125 awards.

Statutory Authority: The Head Start Act, as amended, 42 U.S.C. 9831 et seq.

Evaluation Criteria

Competing applications for financial assistance will be reviewed and evaluated on the six criteria that are summarized below. The point values following each criterion indicate the numerical weight each criterion will be accorded in the review process.

Criterion 1. Objectives and Need for Assistance (15 Points)

The extent to which, based on community assessment information, the applicant identifies any relevant physical, economic (e.g., poverty in the community), social, financial, institutional, or other issues which demonstrate a need for the Early Head Start program.

The extent to which the applicant lists relevant program objectives that adequately address the strengths and needs of the community.

The extent to which the applicant describes the population to be served by the project and explains why this population is most in need of the services to be provided by the program.

The extent to which the applicant gives a precise location and rationale for the project site(s) and area(s) to be served by the proposed project. If the applicant is a current Early Head Start grantee planning to expand its program it needs to demonstrate that the geographic area is currently underserved or, where applicable, unserved by Early Head Start Programs. If the applicant does not currently have an Early Head Start grant, it needs to demonstrate that the proposed service area is currently unserved by Early Head Start programs.

Criterion 2 Results or Benefits Expected (10 Points)

The extent to which the applicant identifies the results and benefits to be derived from the project and links these to the stated objectives.

The extent to which the applicant describes the kinds of data to be collected and how they will be utilized to measure progress towards the stated results or benefits.

Criterion 3 Approach (25 Points)

The extent to which the applicant demonstrates a thorough knowledge and understanding of the Head Start Program Performance Standards.

The extent to which the applicant explains why the approach chosen is effective in light of the needs, objectives, results and benefits described above.

The extent to which the approach is grounded in recognized standards and/or guidelines for high quality service provision or is defensible from a current research or best practices standpoint.

Criterion 4 Staff and Position Data and Organization Profiles (15 Points)

The extent to which the proposed program director, proposed key project staff, the organization's experience, including experience in providing early, continuous, and comprehensive child and family development services, and the organization's history with the community demonstrate the ability to effectively and efficiently administer a project of this size, complexity and scope.

The extent to which the applicant's management plan demonstrates sufficient management capacity to implement a high quality Early Head Start program.

The extent to which the organization demonstrates an ability to carry out continuous improvement activities.

Criterion 5 Third Party Agreements/Collaboration (15 Points)

The extent to which the applicant presents documentation of efforts (letters of commitment, interagency agreements, etc.) to establish and maintain ongoing collaborative relationships with community partners.

The extent and thoroughness of approaches to combining Early Head Start resources and capabilities with those of other local child care agencies and providers to provide high quality child care services to infants and toddlers which meet the Head Start Program Performance Standards.

Criterion 6 Budget and Budget Justification (20 Points)

The extent to which the program's costs are reasonable in view of the planning and activities to be carried out and the anticipated outcomes.

The extent to which the program has succeeded in garnering cash or in-kind resources, in excess of the required Federal match, from local, State, other Federal or private funding sources.

The extent to which costs for facilities are reasonable and cost effective.

The extent to which the salaries and fringe benefits reflect the level of compensation appropriate for the responsibilities of staff.

The extent to which assurances are provided that the applicant can and will contribute the non-Federal share of the total project cost.

Required Notification of the State Single Point of Contact

This program is covered under Executive Order 12372, “Intergovernmental Review of Federal Programs,” and 45 CFR Part 100, “Intergovernmental Review of Department of Health and Human Services Programs and Activities.” Under the Order, States may design their own processes for reviewing and commenting on proposed Federal assistance under covered programs.

All States and territories except Alabama, Alaska, Colorado, Connecticut, Hawaii, Idaho, Kansas, Louisiana, Massachusetts, Minnesota, Montana, Nebraska, New Jersey, New York, Ohio, Oklahoma, Oregon, Pennsylvania, South Dakota, Tennessee, Vermont, Virginia, Washington, American Samoa, and Palau have elected to participate in the Executive Order process and have established Single Points of Contact (SPOCs). Applicants from these jurisdictions need not take action regarding Executive Order 12372.

Applications for projects to be administered by federally recognized Indian Tribes are also exempt from the requirements of Executive Order 12372. Otherwise, applicants should contact their SPOC as soon as possible to alert them to the prospective application and to receive any necessary instructions. Applicants must submit any required material to the SPOC as early as possible so that the program office can obtain and review SPOC comments as part of the award process. It is imperative that the applicant submit all required materials, if any, to the SPOC and indicate the date of this submittal (or date of contact if no submittal is required) on the Standard Form 424, item 16a.

Under 45 CFR 100.8(a)(2), a SPOC has 60 days from the application deadline to comment on proposed new or competing continuation awards.

SPOCs are encouraged to eliminate the submission of routine endorsements as official recommendations.

Additionally, SPOCs are requested to clearly differentiate between mere advisory comments and those official State process recommendations which may trigger the “accommodate or explain” rule.

When comments are submitted directly to the ACF, they should be addressed to: William Wilson, Head Start Bureau, Grants Officer, 330 C Street S.W., Room 2220, Washington, D.C. 20447. Attn: Early Head Start Nationwide Competition/Expansion.

A list of the Single Points of Contact for each State and Territory can be found on the following web site:

http://www.hhs.gov/progorg/grantsnet/laws-reg/spoc999.htm

(Catalog of Federal Domestic Assistance Program Number 93.600, Project Head Start)

Dated: March 1, 2001.
James A. Harrell,
Acting Commissioner, Administration on Children, Youth and Families.

Appendix A_Early Head Start

FY 2001 Expansion Service Areas Matrix
State and county | Service area (Local community)
Alabama:
Blount | The communities of Allgood, Locust Fork and all areas North of those communities.
| All communities south of Allgood and Locust Folk.
Lawrence | Entire County.
Morgan | Entire County.
Jefferson | Birmingham, Bessemer, Tarrant City, Centerpoint, Adamsville, Grayville, Brookville, Sayre, Roebuck, Ensley, Forrestdale, Gardendale, and other small unincorporated areas; and
| Referrals from the county welfare agency for teen mothers and mothers with chemical addictions and at risk of child abuse.
St. Claire | Entire County.
Walker | Jasper.
Shelby | Pell City.
| Entire county, except Pell City.
Elmore | Bradford.
Chilton | Entire County.
Autauga | Autaugaville.
Lee | Entire County.
Russell | Entire County.
Tuscaloosa | Entire County.
Montgomery | Entire County.
Calhoun | Anniston.
Alaska:
Lower Yukon | Villages of: Pilot Station and St. Mary's.
Kuskokwin | Villages of: Akiak, and Nunapitchuk.
Anchorage | Municipality of Anchorage.
Fairbanks North Star | Entire Borough.
Kenai Peninsula | Tyonek.
Arizona:
Coconino | Flagstaff.
Navajo | Holbrook.
Yavapai | Cottonwood.
Navajo Nation | Navajo Reservation, Navajo School Board.
Maricopa | School Districts: Balsz, Creighton, Madison, Osborn, and Paradise Valley Unified.
Pima | School Districts: Amphitheater, Flowing Wells, Tucson and Sunnyside.
Graham, | Entire County.
Santa Cruz | Entire County.
Conchise | Entire County.
Greenlee | Entire County.
Pinal | Miami.
Gila | Entire County.
Arkansas:
Arkansas | Entire County.
Logan | Entire County.
Lonoke | Entire County.
Conway | Entire County.
Franklin | Entire County.
Johnson | Entire County.
Yell | Entire County.
Polk | Entire County.
Pope | Entire County.
Calhoun | Cities of Hampton, Harrell and Thornton.
Clay | Cities of Rector, Piggott, and Corning.
Lawrence | City of Walnut Ridge.
Randolph | City of Pocahontas.
Newton | Entire County.
Ouachita | City of Bearden.
Mississippi | The townships of Leachville, Kaiser, Gosnell, Manila, and Luxora; Boundaries for city of Blytheville are the communities of Yarbo to the north, Dell to the South, Armore 1 to the east and Burdette to the south. Boundaries for the city of Osceola are Richard Prewitt Dr. to the south, Interstate 55 to the west, Jacksonville Rd. to the east and town of Luxora to the north.
Pulaski | Townships of College Station, Sweet Homes, Higgins, and Wrightsville to Oak Street. In the City of Little Rock: the township of Granite Mountain; in east Little Rock, east of Main Street to include West Broadway north and south; Interstate 30 South, Scott Hamilton Rd., Baseline Rd., and Geyer Springs Rd.
Sebastian | All of wards one and two on the north side of Fort Smith, joined and bordered by the Arkansas River on the north, east and west, ending to the south at Rogers Avenue, Dodson Avenue, and Euper Lane.
Union | Cities of: Calion, El Dorado, Huttig, Felthensal, Junction City, Norphlet, Smackover, Strong.
California:
Alameda | Albany, Berkeley.
| San Leandro, Castro Valley, Union City, Fremont, San Lorenzo, Hayward Livermore, Dublin and Pleasanton (Cherryland), and Newark.
| West Oakland, Chinatown, Central Downtown, San Antonio, Fruitvale, Central East Oakland and Elmhurst.
Calaveras | San Andreas, Valley Springs and Angels Camp.
Colusa | Colusa, Grimes, Princeton, Williams, Arbuckle, Maxwell, Meridian.
Contra Costa | Concord, Pleasant Hill, Antioch, Brentwood, Oakley, Richmond, San Pablo, Pittsburg.
Del Norte | The cities of Crescent City, Fort Dick, Smith River and surrounding areas.
Humboldt | Entire County, excluding the Hoopa Valley Indian Reservation.
| Hoopa Valley Indian Reservation.
El Dorado | Shingle Springs, El Dorado, El Dorado Hills, Cameron Park, Placerville, Georgetown/Kelsey, Camino/Polock Pines, Tahoe Basin.
Fresno | West Fresno, Southeast Fresno and Fresno Unified School District.
Kern | Northeast Bakersfield, Arvin, Lamont;
| Metro Bakersfield—Central and Southeast.
Kings | Corcoran and Hanford.
Hanford | Avenal and Lemoore.
Lake | Lake, Mendocino.
Lassen | Entire County.
Modoc | Entire County.
Siskiyou | Entire County.
Los Angeles | City of Los Angeles:
| (1) 3rd and Temple on the north, to Hoover, to Vermont, to 7th, to Wilshire, to Hoover and Central on the South border in the downtown L.A.,
| (2) Baldwin Park USD North: Oak Ave. And Arrow Hwy, South: Farnell East: Azusa Canyon, La Serna, Willow, Ardilla, Mayland, West: San Gabriel River;
| (3) City of South El Monte: North: Garvey Ave, Fern St., Elliot Ave., and Schmidt Rd., South: Whittier Narrows Recreation Area, East: San Gabriel River, Fruitvale Ave.,
| (4) El Monte City border; West to Whittier Narrows Recreation Area and Rio Hondo River; North: Century Blvd.; 104th Street; 103rd Street; South: Anderson Fwy (105); East: Prairie Ave.; West: La Cienega Blvd.
| (5) Gardena: North: El Segundo Blvd.; South: 182 St., Artesia Blvd. and Redondo Beach Blvd; East: Vermont Ave; West: Crenshaw Blvd. and Gramercy Blvd;
| (6) North: Century Blvd., 104th Street, 103rd Street, South: Anderson Freeway (105), East: Prairie Ave., and West: Crenshaw and Gramercy Blvds
| (7) Plaza De La Raza North: A.T.& S. F. Railroad and Washington Blvd. South: Lakeland Rd. and Imperial Hwy. East: Shoemaker, Carmenita and Mulberry West: San Gabriel River (605 Freeway);
| (8) Plaza De La Raza: North: Imperial Hwy; South: Excelsior Dr., Alondra Blvd. And Santa Ana Frwy; East: Valley View Ave., Marquardt Ave.; West: Shoemaker Ave., Bloomfield Ave., Best Ave. and Norwalk City border
| (9) Pomona USD: North: Foothill Blvd., Lewis Ave., Oak Dr., Parkwood Ln., Harrison Ave., Arrow Ave. and American Ave.; South: Pomona Frwy (60) and Riverside Dr.; East: San Bernardino County Line, Mountain Ave., Carnegie Ave., and Towne Ave.; West: Fulton Rd., L.A. County Fairplex, Fairplex Dr., San Bernardino Frwy (10), and Campus Dr;
| (10) North Hollywood service area: North: Saticoy St.; South: Universal City Border, Acama St. and Riverside Dr.; East: Clybourn Ave., Burbank Airport, and Burbank City border; West: Tujunga Ave., Fulton Ave., Coldwater Canyon Ave., and Hollywood Frwy. (170);
| (11) Harbor City service area: North: Sepulveda Blvd., Lomita Blvd.; South: Palo Verdes Dr., Anaheim St.; East: Harbor Frwy (110) and Normandie Ave.; West: Western Ave., City of Torrance border, and City of Lomita border;
| (12) North Hollywood, Sunland and harbor city, Wilmington, San Perdo, Lomita, Carson, portions of Torrence and Ranchos PalasVerde, Downey, South central, LA, Westwood, Pomano, Echo Park area, Pico Rivera, Antelope Valley (Lancaster, Palmdale). Bell, bell gardens, and Cudahy;
| (13) Greater Hollywood area: City of West Hollywood and Mid-Wilshire District.
| Koreatown, Echo Park, Pico/Union area, Mid-city area and Westlake area.
| City of Venice.
| City of Long Beach, central area.
| Inglewood/South Central LA: North: Slauson Avenue; South: Century Blvd.; East: Avalon Blvd.; West: Van Ness Avenue.
| The communities of West Adams, Jefferson Park, and University Park. Boundaries: 9th Street on the North, King Blvd. On the South, San Perdro Street on the East, and Crenshaw on the West.
| Compton.
| Cities of Santa Monica, West Los Angeles, Culver City, Ingelwood, Lennox, Westchester, Venice, Palms and Mar Vista. Bounded on the north by Wilshire Blvd. To Sepulveda to Olympic,
| East by Beverly Drive to Pico to Durango to La Cienega to Jeffereson to Sepulveda to Centinela to Prairie; South by Imperial Highway to Sepulveda to Lincoln to Admiralty Way to washington, West by the Pacific Ocean.
Marin | San Rafael, Novato, Corte Madera, Greenbrae, San Anselmo.
Mendocino | Ukiah, Willits.
Nevada | Entire County.
Placer | Entire County.
Sacramento | (1) The City of Sacramento: the communities of Del Paso Heights, North Sacramento/Gardenland, Midtown, Oak Park, South Sacramento, Meadowview, Natomas, Land Park and Arden/Howe;
| (2) the cities of Citrus Heights and Galt and;
| (3) the towns of Rio Linda/Everta, North Highlands, Foothill Farms, Orangevale, Carmichael, Fair Oaks, Rancho Cordova, South Sacramento, Franklin/Laguna, Elk Grove, and Antelope; and
| (4) Woodland, Winters, Davis and West Sacramento.
San Diego | Central San Diego, Peninsula, National City, Southeast San Diego, (2) Mid-City, Coastal Poway, Sweetwater, Chula Vista, and South Bay.
| Campo Reservation, Rincon Reservation, San Pasqual Reservation, Pauma Reservation, and Pala Reservation.
| San Bernardino County, City Of San Bernardino
| Oceanside, Vista, San Marcos, Fallbrook, Valley Center, Rincon, Pauma, and Pala.
San Francisco | Chinatown, Tenderloin, Visitation Valley; and parts of Northbeach, Civic Center, and Bayview Hunters Point.
San Joaquin | Lodi, Stockton, Manteca, Lathrop.
San Mateo | Half Moon Bay.
Santa Barbara | Santa Maria, Lompoc, Santa Barbara and Summerland.
Santa Clara | Northwest and central San Jose.
Santa Cruz | Watsonville and Santa Cruz.
Shasta | Entire County.
Trinity | Entire County.
Stanislaus | Westside of county areas of Westley and Patterson.
Sutter | Entire County.
Yuba | Entire County.
Tulare | Entire County.
Ventura | Oxnard, Hueneme, Santa Paula, Fillmore and Piru.
Yolo | Entire County.
Riverside | Banning, Beaumont.
| Saboba Reservation, Morongo Reservation, and San Jacinto.
Sonoma | Sebastopol, Petaluma, Guernville, Sonoma, Rohnert Park, Windsor, Santa Rosa.
San Luis Obispo | Entire County.
San Benito | Entire County.
Monterey | Entire County.
| Seaside, Marina, E. Salinas, Pajaro, Casroville, Prunedale, Soledad, Gonzales, and surrounding rural areas.
Colorado:
Adams | (1) City of Aurora: North to the city limits of Aurora; South to Mississippi St, East of Yosemite St, and West of Chambers Rd.
| (2) Beginning at north 54th Avenue and Peoria, go 54th east to Chambers; Chambers south to I-70, I-70 West to Peoria, Peoria north to 54th Avenue;
| (3) North Aurora bounded by Aurora and Dayton/Havana (West), I-225 (East) Mississippi Ave.(south and I-70(North).
Arapahoe | Colfax Avenue (county line) on the North, Mississippi Avenue on the South, Chambers Road on the East and Yosemite Street (county line) on the West.
Crowley | Entire County
Denver | City of Denver:
| (1) SW portion of the city, defined as within Federal Blvd to the East, Sheridan Blvd on the west, Hampden Ave to the south and Alameda Ave to the north;
| (2) NW Denver is bordered by Federal Blvd on the west, Interstate 25 on the east, 52nd Ave to the north and 38th Ave to the south; and
| (3) W Central Denver, defined by I -25 on the east, Sheridan Blvd on the west, 26th Ave on the north and 6th Ave to the South;
| (4) NE Denver: defined as 38th Ave. to the North, Park Ave. to the South, York Street to the East and I-25 to the West.
| (5) The area bounded by 52nd Avenue on the North, Alameda Boulevard on the South, Broadway Avenue on the East and Sheridan Boulevard on the West.
| (6) Beginning at north Broadway and 38th avenue, go east to Yosemite; Yosemite south to 11th Avenue, 11th Avenue west to Quebec; Quebec south to Hampden; Hampden west to Broadway; Broadway north to 35th Avenue
| (7) Beginning at North 54th Avenue and Peoria, go 54th East to Chambers Rd. Chambers South to I-70, I-70 West to Peoria, Peoria North to 54th Avenue.
| (8) Five Points, Cole, East Colfax, Whittier, Clayton, Northeast Park Hill, Cheeseman Park, Montbello, City Park, Globeville, Skyland and North Capitol Hill; bounded to the north by Broadway and 38th Ave., east to Yosemite, south to 11th Ave, west to Quebec; Quebec south to Hampden, Hampden west to Broadway, Broadway north to 35th Ave.
Eagle | Entire County.
El Paso | School Districts #2 and #11 boundaries.
Fremont | Entire County.
Otero | Entire County.
Larimer | Pourde School District boundary that includes the cities of Fort Collins, LaPorte, Timnath and Wellington, and the communities of Ft. Collins, Wellington, La Porte, Loreland and surrounding areas.
Navajo Nation | Navajo Reservation, Navajo School Board.
La Plata | Within the boundaries of the Southern Ute Reservation and the Ignacio School District.
Connecticut:
Fairfield | (1) Neighborhoods of (1) The Hollow, (2) West End, (3) South End, (4) North End, (5) East End, (6) East Side; and the city of Bridgeport; and
| The City of Stamford.
Hartford | Cities of Manchester and Vernon.
Litchfield | Towns of Torrington, Winston, Canaan, & New Milford.
Middlesex | Towns of Middletown, Essex, Portland, Clinton, Westbrook, East Hampton and Deep River.
New Haven | City of Waterbury.
Windham | Towns of Brooklyn, Danielson and Willimantic.
Delaware:
New Castle | Entire County.
Sussex | Georgetown.
Florida:
Alachua | Communities of Majestic Oaks, Sugarfoot Oaks, Tower Oaks, Cedar Ridge, Clayton Estates, Magnolia Plantation.
Apalachicola | Entire County.
Bay | Panama City Beach.
Jackson | Graceville.
Baker | Entire County.
Brevard | Entire County and Cities of Coca, Titusville, Palm Bay and Melbourne.
Broward | Pompano Beach, Hollywood.
Collier | Entire County.
DeSota | Entire County.
Glades | Entire County.
Hardy | Entire County.
Henry | Entire County.
Highlands | Entire County.
Columbia | Lake City.
Dade | City of Homestead and towns of Brownsville, Scott Carver, Liberty City, Winwood, Goulds, Leisure City, Carol City and OpaLocka.
Gadsden | Entire County.
Gulf | Wewahitchka, Port St. Joe.
Hillsboro | Tampa, Plant City.
Jefferson | Greenville.
Madison | Entire County.
Lake | Clermont, Eustis, Leesburg, Mount Dora, Montclair Village, Groveland.
Lee | Entire County.
Marion | Entire County.
Martin | Hobe Sound (Banner Lake, Pettway, Gomez), Port Salerno (Gomez, Jack Avenue, Rocky Point, New Monrovia), Stuart (Golden Gate, East Stuart).
Okaloosa | Crestview-20 mile radius.
Palm Beach | Pahokee, South Bay and Belle Glade-Western region of county, West Palm Beach, North-South West Palm Beach, S. Bay, Riviera Beach, Lake Worth, Boynton Beach, Delray Beach.
Sarasota | Sarasota, Cities of Newton, Venice and North Port.
Hillsborough | Tampa (Ybor City, North Tampa, Sulfhur Springs), Plant City.
St. Lucie | Entire County.
Santa Rosa | Milton, Santa Rosa Co.
Dixie | Cross City.
Gilchrist | Trenton.
Levy | Chiefland, Yankeetown, Williston, Bronson.
Volusia | Cities of Daytona Beach, Pierson, Deland, and New Smyrna.
Mantee | Entire County, including the Cities of Bradenton and Palmetto.
Georgia:
Chatham | Savannah.
Chattooga | Entire County.
Catoosa | Entire County.
Dekalb | Decatur, City of Decatur, Ellenwood, Lithonia, Stone Mountain.
Emanuel | Swainsboro, Twin City, Summertown, Adrian, Oak Park, Lexsy, Garfield, Stillmore.
Fulton | East Point, Alpharetta, Roswell, Sandy Springs.
| Cabbagetown.
Clayton | Jonesboro.
Cobb | Marietta.
Douglas | Douglasville.
Gwinnett | Lawrenceville.
Dekalb | Decatur, City of Decatur, Elennwood, and Lithonia.
| South Dekalb bounded by Covinton Highway, Brown's Mill Road and Bouldercrest Road.
Hall | Entire County.
White | Entire County.
Forsyth | Entire County.
Hart | Entire County.
Sumter | Americus.
Whitfield | South of Tilton and North of Varnell.
Murray | North of Eton and South to North Georgia Speedway.
Carroll | City of Carrollton.
| Entire County., except City of Carrollton.
Troup | LaGrange.
Coweta | Newnan.
Clarke | Athens.
Greene | Entire County.
Morgan | Entire County.
Hawaii:
Hawaii | South Kona & North Kona, South Kahala & North Kahala.
Maui | Lanai, Makawao/Upcountry, Hana/East Maui, Lahaina/West Maui Wailuku & Kahulu-Central Maui and Kihei-South Maui.
Oahu | Waipahu to Hawaii Kai;
| Honolulu vicinity defined by Hawaii Kai (Koolauloa): Kaaawa, Hau'ula, Laie, Kahuku, Pupukea (North Shore) Sunset, and Kahana Valley.
| Leeward Oahu: Waianae Coast, Windward Oahu: Kailua.
Idaho:
Bonner | Community of Sand Point.
Kootenai | Cities of Coer d'Alene, Post Falls and surrounding areas.
Nez Perce | Entire county, except the Nez Perce Reservation and Asotin County, WA.
| Nez Perce Reservation.
Lewis | Nez Perce Reservation.
Clearwater | Nez Perce Reservation.
Illinois:
Champaign | Entire County.
Clinton | Entire County.
Washington | Entire County.
Cook County | South Chicago / Lower West Side.
| Near South / Armour Square.
| New City/ West Englewood/ Englewood.
| Communities of: Cicero: Berwyn, and Cicero; Maywood: Broadview, Elmwood Park, Norridge, Franklin Park, Hillside, Maywood, North Riverside, River Grove, Schiller Park, Stone Park; Bellwood: Bellwood, Berkley, Brookfield, Forest Park, La Grange Park, Melrose Park, Northlake, North Riverside, Westchester, and Western Springs; Robbins: Blue Island, Harvey, Calumet Park, Riverdale, Dixmoor, and Robbins; Summit: Burbank, Hickory Hills, Worth, Hometown, Willow Springs, Oak Lawn, Justice, Nottingham Park, Chicago Ridge, Bridgeview, Summit, Hodgkins, Bedford Park, Palos Hills, Lyons, La Grang.
| Uptown Community.
| Rogers Park.
| West Humboldt Park Community and New City Community.
| Evanston Township;
| Community of Grand Boulevard;
| Communities of Oakland, Albany, Park, North Lawndale, Gage Park, Fuller Park, Near West Side, Roseland, West Town, Austin, Logan Square, West Pullman, Chatham, Woodlawn, Washington Heights, Near North Side, Garfield Park, and Douglas.
Edwards | Entire County.
Saline | Entire County.
Gallatin | Entire County.
Hamilton | Entire County.
Wabash | Entire County.
Wayne | Entire County.
White | Entire County.
Kane | Towns of Elgin, Aurora, and Carpentersville.
Sangamon | Sangamon.
St. Clair | District 1/East St. Louis; District 3/ Cahokia—Centreville.
Peoria | City of Peoria.
Madison | Towns of Alton, Granite City, Pontoon Beach, Venice, Collinsville and E. Alton.
Will | Town of Joliet.
Williamson | Entire County.
Franklin | Entire County.
DuPage | Towns of Bensenville & surrounding areas, Wheaton, West Chicago,Villa Park, and Lombard.
Lake | Entire County.
Hancock | Entire County.
McDonough | Entire County.
Pike | Entire County.
Indiana:
Ada | Entire County.
Blackford | Entire County.
Grant | Entire County.
Clay | Entire County.
Owen | Entire County.
Putnam | Entire County.
DeKalb | Entire County.
Howard | Entire County.
Miami | Entire County.
Lawrence | Entire County.
Martin | Entire County.
Orange | Entire County.
Washington | Entire County.
Madison | Madison County.
Marshall | Entire County.
Starke | Entire County.
Marion | Pike, Washington, Lawrence, Wayne, Center, and Warren Townships.
Tippecanoe | Entire County.
Vanderburg | Town of Evansville.
Vigo | Entire County.
Knox | Entire County.
Sullivan | Entire County.
Koscinsko | Entire County.
Iowa:
Allamakee | Entire County.
Audubon | Entire County.
Blackhawk | City of Waterloo
Calhoun | Entire County.
Carroll | Entire County.
Cherokee | Entire County.
Clarke | Entire County.
Clay | Entire County.
Clayton | Entire County.
Dallas | Entire County.
Decatur | Entire County.
Des Moines | Entire County.
Greene | Entire County.
Guthrie | Entire County.
Hamilton | Entire County.
Hardin | Entire County.
Henry | Entire County.
Humboldt, | Entire County.
Lee | Entire County.
Linn | Entire County.
Louisa | Entire County.
Marshall | Entire County.
Plymouth | Entire County.
Polk | West—County Line from Raccoon River to 9400 N. North—9400 N to NW 58th to NW 110th Place to NE 22nd Street to NE 118th Street. East—NE 29th to I-80 to NE 120th Street to East University to NE 64th Street to SE 6th to SE 60th to the Des Moines River to I-65 to 80th SW. South—80th SW/County Line from Des Moines River to 9800 W.
Poweshiek | Entire County.
Sac | Entire County.
Scott | City of Davenport: West Boundary—an area bounded by the West side of I-280 on the west edge of Davenport continuing from the Mississippi River north to the north side of I-80 on the north edge of Davenport; North boundary: From a point where I-280 meets I-80 continuing east to the east side of I-74 on the east edge of Davenport; East boundary: From the north starting point of I-74 where it meets I-80, continuing south of I-74 to the Mississippi River; South boundary: East from the east side of I-74 west along the Mississippi River to the west edge of I-280 where I-280 meets the river.
Story | Entire County.
Tama | Entire County.
Webster | Entire County.
Woodbury | Entire County.
Wright | Entire County.
Kansas:
Atchinson | Entire County.
Brown | Entire County.
Doniphan | Entire County.
Jefferson | Entire County.
Leavenworth | Entire County.
Marshall | Entire County.
Nemaha | Entire County.
Potawatomi | Entire County.
Jackson | Entire County, except the Potawatomi Reservation and the towns of Hoyt and Mayetta.
| Prairie Band of Potawatomi Reservation and two communities adjacent to the reservation, Hoyt and Mayetta.
Cherokee | Entire County.
Crawford | Entire County.
Labette | Entire County.
Montgomery | Entire County.
Clay | Entire County.
Cloud | Entire County.
Dickerson | Entire County.
Ellsworth | Entire County.
Saline | Entire County.
Ford | Entire County.
Johnson | City of Overland Park: North of I-435 to 47th Street, West of State Line Road to Lackman Road in Northeast Johnson County.
Lyon | Entire County.
Riley | Entire County.
Rush | Entire County.
Russell | Entire County.
Ellis | Entire County.
Sedgwick | City of Wichita: an area bounded by Murdock Street on the North. 47th South Street on the South. Woodlawn Street on the East and Main Street on the West.
Shawnee | Entire County.
Sumner | Entire County.
Washington | Entire County.
Wyandotte | Kansas City: bounded by: Wyandotte/Douglas County Line on the West. The Wyandotte/Johnson County Line on the South and the Kansas/Missouri State Line on the North and East.
Finney | Garden City.
Kentucky:
Bourbon | Entire County.
Fayette | Entire County.
Harrison | Entire County.
Nicholas | Entire County.
Scott | Entire County.
Breckinridge | Entire County.
Grayson | Entire County.
Calloway | Entire County.
Carlisle | Entire County.
Fulton | Entire County.
Marshall | Entire County.
Hickman | Entire County.
Ballard | Entire County.
Graves | The towns of Mayfield, Fancy Farm, Lowes, Sedalia, Symsonia and Wingo.
Warren | Bowling Green, Rockville, Albaton, Rich Panel, Plano.
McCracken | Paducah, Concord, Farley, Heath, Hendron, Loneoak.
Christian | Hopkinsville.
Daviess | Owensburg.
Ohio | Entire County.
Lyon | Entire County.
Trigg | Entire County.
Harlan | Entire County.
Clay | Entire County.
Knox | Entire County.
Harrison | Entire County.
Jefferson | Entire County.
Knott | Hindman, West Caney.
Letcher | Jenkins, Fleming.
Lincoln | The towns of Paducah, Concord, Farley, Heath, Hendron and Loneoak.
Owsley | The towns of Bowling Green, Rockfield, Albaton, Rich Panel, and Plano.
Bullitt | Mt. Washington.
Casey | Entire County.
Cumberland | Entire County.
Green | Entire County.
Taylor | Entire County.
Bell | Communities of Pineville, Middlesboro and Yellow Creek.
Whitley | Communities of Williamsburg and Oak Grove.
Louisiana:
East Baton Parish | City of Baton Rouge:
| 1. The area located in North Baton Rouge starting at the center of Airline Highway and the Louisiana and Arkansas Railroad; east and then south to the center of Winbourne Avenue; west to the center of North Foster; south to the center of Choctaw Drive; west to the center of the north bound lane of N. Acadian Thruway; north to the south side of Linden; west to the center of Plank Road; north to the north side of Hollywood; west to the west side of Scenic Highway; north to Monte Sano Bayou; west to the Louisiana & Arkansas Railroad; north to the point of beginning.
| 2. Beginning at the west side of Plank Road and the center of Hopper Road; east to the south side of Mickens; southeast to the west side of Lanier Drive; south to the north of Oak Apple Avenue; west to the west end of Oak Apple Avenue; south to the south of Maplewood Avenue; east to the west side of Lanier Drive; south to the south of Greenwell Street; west on the south side of Greenwell Street to the center of Airline Highway; west to the west side of Plank Road; north to the point of beginning.
| 3. An area beginning at Long Allen Bridge (US Highway 190 Bridge/Mississippi River Bridge); east and south on US Highway 190 to Florida Blvd.; south on US Highway 61 to Bayou Manchac (parish line); southwest along the center of Bayou Manchac to Mississippi; north to point of beginning.
Bossier Parish | Entire Parish.
Iberia Parish | Entire Parish.
Lafayette Parish | Entire Parish.
St. Martin Parish | Entire Parish.
Rapides Parish | Entire Parish.
St. Charles Parish | Entire Parish.
St. Helena Parish | Entire Parish.
St. Tammany Parish | The Northern portion of St. Tammany Parish bordered on the North by the St. Tammany/Washington Parish Line, bordered on the East by the Pearl River/Mississippi State Line, bordered on the South by US Highway 190, and bordered on the West by the St. Tammany-Tangipahoa Parish.
Tangipahoa Parish | South portion of Tangipahoa Parish bordered on the North by Louisiana State Highway 16, bordered on the East by the Tangipahoa-St. Tammany Parish Line, bordered on the South by State Highway 22, and bordered on the West by the Tangipahoa-Livingston Parish Line.
Washington Parish | Entire Parish.
West Feliciana Parish | Entire Parish.
Maine:
Androscoggin | City of Lewiston.
Franklin | Entire County; Towns of Livermore, Livermore Falls.
Cumberland | Entire County.
Northern Kennebec | Entire County.
Somerset | Entire County.
Southern Oxford | South Paris, Buckfield, Summer, Hartford.
Maryland:
Allegany | Entire County.
Baltimore | City of Baltimore:
| (1) The communities of Edmondson Village Sandtown/Winchester, Reservoir Hill, Park Heights (upper and lower), Washington Village/Pigtown, Mideast, Forest Heights, Mondawmin, Howard Park, Rosemount, Franklin Square/Poppletown, Penn/Druid/Uppertown, Green Mount East, Hopkins Middleast, Madison East End, Cherry Hill, Brooklyn/Curtis Bay, Claremount, Armstead, Beechfield/Irvington, Belair/Edison, Waverly, Govans, Hampden/Woodbury, and Barclay
| (2) The area bounded on the North by Monument Street, on the South by the Waterfront, on the East by the City Line and on the West by Broadway Street; Caroline County; and Southern Anne Arundel County, including the towns of Harwood, West River, Galesville, Lothian, Churchton, Deale, Shady Side and Traceys Landing.
| The area bounded on the North by Monument Street, on the South by the Waterfront, on the East by the City Line and on the West by Broadway Street; Caroline County; and Southern Anne Arundel County, including the towns of Harwood, West River, Galesville, Lothian, Churchton, Deale, Shady Side and Traceys Landing.
Caroline | Entire County.
Anne Arundel | The towns of Harwood, West River, Galesville, Lothian, Churchton, Deale, Shady Side and Traceys Landing.
Cecil | Entire County.
Dorchester | Entire County.
Garrett | Entire County.
Harford | Entire County.
Montgomery | (1) Gaithersburg and Germantown;
| (2) Rockville South of Route 28, Silver Spring and Takoma Park.
Prince Georges | Hyattsville, Riverdale and Langley Park.
Massachusetts:
Bristol | City of Fall River, and the Towns of Somerset, Swansea, Rehoboth, Dighton, Freetown, Berkley, Lakeville, and Seekonk Towns of Raynham and Taunton.
Essex | Cities/Towns of Lawrence, Methuen, Andover and N. Andover.
Franklin | Towns of Greenfield, Orange and Turners Falls.
Hampden | Cities of Holyoke, Chicopee and Springfield.
Middlesex | City of Somerville.
| City of Lowell.
Suffolk | City of Boston: North Dorchester, South Dorchester, Mattapan-Franklin, Roslindale, West Roxbury, Hyde Park, East Boston, Charlestown, South Boston, Central, South end, Fenway-Kenmore, Allston-Brighton, Jamaica Plain, Roxbury, except Back Bay-Beacon Hill neighborhood.
| City of Boston: North Dorchester, South Dorchester, Mattapan-Franklin, Roslindale, West Roxbury, Hyde Park, East Boston, Charlestown, South Boston, Central, South end, Fenway-Kenmore, Allston-Brighton, Jamaica Plain, Roxbury, except Back Bay-Beacon Hill neighborhood.
Worcester | Towns of Southbridge, Webster and Oxford.
Norfolk | Quincy, Braintree, Weymouth, and Milton.
Plymouth | Hull.
Michigan:
Alger | Entire County.
Marquette | Entire County.
Alpena | Entire County.
Bay | Entire County.
Iosco | Entire County.
Arenac | Entire County.
Cheboygan | Entire County.
Ogemaw | Entire County.
Antrim | Entire County.
Benzie | Entire County.
Charlevoix | Entire County.
Emmet | Entire County.
Grand Traverse | Entire County.
Jackson | North of I-94 to Seymore Rd., South of I-94 to US-12, East of US-127 to Clear Lake Rd., West of US-127 to M-99. The cities and towns of Brooklyn, Cement City, Clarke Lake, Concord, Grass Lake, Horton, Jackson, Michigan Center, Napolean, Parma, Spring Harbor, and Springport.
Kalkaska | Entire County.
Leelanau | Entire County.
Missaukee | Entire County.
Roscommon | Entire County.
Wexford | Entire County.
Delta | Entire County.
Menominee | Entire County.
| Hannahville Reservation.
Schoolcraft | Entire County
Baraga | Entire County.
| Keweehaw Reservation.
Houghton | Entire County.
Keweenaw | Entire County.
Genesee | (1) Carman-Ainsworth School District and Bendel School District.
| (2) Eligible families enrolled in the Michigan Job Corps, Mott Community College, U of MI-Flint, and the Career Alliance Program (Sylvester Broome Training Center); Flint School District including service areas of Holmes and Whittier; and School Districts of Clio, Montrose, Mt. Morris, Genesee, Kearsley, West Wood Heights and Flushing.
Clare | Entire County.
Gladwin | Entire County.
Mecosta | Entire County.
Midland | Entire County.
Osceola | Entire County.
Luce | Entire County.
Mackinac | Entire County.
Ionia | Entire County.
Isabella | Entire County.
Gratiot | Entire County.
Montcalm | Entire County.
Gogebic | Entire County.
| Lac Vieux Desert Reservation.
Ontonagon | Entire County.
Kent | City of Grand Rapids.
| (1) North Boundary-3 Mile Road; East Boundary-East Beltline Ave (except East Grand Rapids); South Boundary-28th Street; West Boundary-Byron Center Road/Covell Avenue/Walker Avenue;
| (2) South of Grand Rapids in an area bounded by 28th Street to the north, Patterson Avenue to the East, 68th Street to the south, and Byron Center Avenue to the West.
Manistee | Entire County.
Lake | Entire County.
Newaygo | Entire County.
Mason | Entire County.
Huron | Entire County.
LaPeer | Entire County.
Sanilac | Entire County.
Tuscola | Entire County.
Ottawa | Town of Ferrysburg, Grand Haven Township, Spring Lake Township, Crockery Township, and Robinson Township within Ottawa County.
Wayne | The following neighborhoods are being served within the city of Detroit:
| (1) Woodland St. /Oakland St./Warren Av./Byron St.
| (2) Fullerton St./Byron St./W. Grand Blvd./Holmur St.
| (3) Puritan St./Thomas St./Fullerton St./Meyers Rd.
| (4) 8 Mile Rd./Southfield Fwy./Puritan St./Five Points St.
| (5) Puritan St./Southfield Fwy./Fullerton St./Telegraph Rd.
Calhoun | Entire County.
St. Joseph | Entire County.
Mackinac | Entire County.
Luce | Entire County.
Delta | Entire County.
Schoolcraft | Entire County.
Marquette | Entire County.
Elger | Entire County.
Chippewa | Entire County.
| Bay Mills Reservation.
| Sault Ste. Marie Tribe of Chippewa Reservation.
Delta | Little Traverse Bay Band Reservation.
Emmet | Little Traverse Bay Band Reservation.
Charlevoix | Pokagom Reservation.
Otsego | Pokagom Reservation.
Cass | Pokagom Reservation.
Berrien | Entire County.
Van Buren | Entire County.
Ingham | City of Lansing, Lansing School District.
Minnesota:
Anoka | Entire County.
Becker | White Earth Reservation.
Hubbard | White Earth Reservation.
Mahnomen | White Earth Reservation.
Beltrami | Entire County.
Cass | Entire County.
Crow Wing | Entire County.
Morrison | Entire County.
Todd | Entire County.
Kittson | Entire County.
Lake of the Woods | Entire County.
Marshall | Entire County.
Roseau | Entire County.
Ramsey | Western half of county and school districts Moundview/ Roseville School District and North St. Paul-Maplewood-Oak Dale School District, and White Bear Lake School District. Boundaries: City of St. Paul, Interstate 35, Interstate 94 and Lafayette Road.
Benton | Entire County.
Sherburne | Entire County.
Stearns | Entire County.
Mille Lacs | Mille Lacs Reservation.
Hennapin | City of Minneapolis.
| City of Minneapolis; Brooklyn Park, Golden Valley, & Richfield.
Mississippi:
Leflore | Greenwood.
Harrison | Biloxi.
Hinds | Entire County.
Holmes | Lexington, Ebenezer, Bowling Green.
Jones | City of Laurel and Towns of Ellisville and Soso.
Copiah | Job Corp site-Crystal Springs.
Leake | Walnut Grove.
Newton | Entire County.
Monroe | Entire County.
Lee | Entire County, except Tupelo.
| Tupelo.
Lafayette | Oxford.
Grenada | Grenada.
Marshall | Byhalia, Holly Springs.
Panola | Batesville.
Pontotoc | Entire County.
Tallahatchie | Glendoro.
Tate | Senatobia.
Tunica | Entire County.
Chickasaw | Houston.
Oktibbeha | Starkville.
Clay | West Point.
DeSota | Walls.
Lowndes | Columbus.
Noxubee | Macon.
Washington | Hollandale, Arcola, Tralake, Murphy.
Henry | Eminence.
Leake | Mississippi Band of Choctaw Indians Reservation: Community of Redwater.
Neshoba | Mississippi Band of Choctaw Indians Reservation: Communities of Pearl River, Boguechitto, and Tucker.
Missouri:
Adair | Entire County.
Barry | Entire County.
Bates | Entire County.
Christian | Entire County.
Dade | Entire County.
Dallas | Entire County.
Lawrence | Entire County.
Greene | City of Springfield: North Boundary—by I-44. South Boundary—by Battlefield Road. East Boundary—by Hwy 65. West Boundary—by Haseltine Road.
Polk | Entire County.
Stone | Entire County.
Taney | Entire County.
Webster | Entire County.
Cass | City of Peculiar.
Henry | City of Clinton.
St. Clair | City of Osceola.
Buchanan | Entire County.
Cape Girardeau | Entire County.
Lafayette | Entire County.
Chariton | Entire County.
Johnson | Entire County.
Ray | Entire County.
Saline | Entire County.
Jackson | City of Kansas City bounded to the North by Missouri River; to the West: by the State Line Road; to the South by 112th Street and to the East by Hillcrest Road.
Jasper | Entire County.
Newton | Entire County.
Knox | Entire County.
St. Charles | Entire County, including:
| (1) City of St. Charles: an area bordered from south, east and west city limit boundary to the Hunters Ridge cutoff to the north; and;
| (2) City of St. Peters: an area bordered from the south, west and north city limit to the Kimberly Street cutoff to the east.
Montgomery | Entire County.
Lincoln | Entire County.
Warren | Entire County.
Cooper | Entire County.
Moniteau | Entire County.
Morgan | Entire County.
Pettis | Entire County.
St. Louis | (1) St. Louis County—North—Missouri River. South: Meramec River. East—Mississippi River, except for St. Louis City which borders St. Louis County on the following streets: Riverview, Goodfellow, Skinker-McCausland, River Des Peres and Carondelet. West—Wild Horse Creek Road, Ossenfort Road, Boguett Road and Fox Creek Road.
| (2) St. Louis City—East—Mississippi River. North, South and West—Borders St. Louis County on the following streets: Riverview, Goodfellow, Skinker-McCausland, River Des Peres, and Carondelet.
| (3) St. Louis City—South—Forest Park Parkway and portions of Forest Park. West—Skinker Boulevard/Kienlen/Jennings Station Road. North—West Florissant Road. East Grand Boulevard.
| (4) St. Louis City: South—By Meramec Street. West—by Grand Avenue to Arsenal Avenue, Arsenal Avenue west to Kingshighway Blvd. North to Columbia Avenue west to Hampton, Hampton north to Highway 40(64) west to Skinker Avenue, north to Forest Park Parkway. North—by Forest Park Parkway to Grand Avenue, Grand Avenue north to St. Louis Avenue. St. Louis Avenue west to Clay Avenue. Clay Avenue north to Natural Bridge. Natural Bridge west to Clay Avenue. Clay Avenue north to West Florissant to Adelaide. Adelaide north to Highway 70. East—by Highway 70 to Chouteau Avenue. Chouteau Avenue east to the river and the river south to Meramec.
Marion | Entire County.
Boone | Entire County.
Montana:
Beaverhead | Entire County.
Silver Bow | Entire County.
Lincoln | School District #4 boundary that includes the city of Libby.
Missoula | Entire County.
Yellowstone | City of Billings and School District #2 boundary that includes the city of Lockwood).
Glacier | Blackfeet Reservation.
Lake | Flathead Indian Reservation.
Nebraska:
Adams | Entire County.
Clay | Entire County.
Franklin | Entire County.
Hall | Entire County.
Nuckolls | Entire County.
Webster | Entire County.
Box Butte | Entire County.
Dawes | Entire County.
Douglas | City of Omaha: an area bordered North—I-680. South—Harrison Street (Sarpy County Line). East—Missouri River. West by 72nd Street.
| City of Omaha: an area bordered North—I-680. South—Harrison Street (Sarpy County Line). East—Iowa State Line. West—72nd Street.
Gage | Entire County.
Garfield | Entire County.
Greeley | Entire County.
Holt | Entire County.
Howard | Entire County.
Colfax | Entire County.
Platte | Entire County.
Sherman | Entire County.
Valley | Entire County.
Lancaster | City of Lincoln.
Saline | Entire County.
Scotts Bluff | Entire County.
Nevada:
Clark | Las Vegas, North Las Vegas and Henderson.
Elko | Entire County.
Whitepine | Entire County.
Washoe | Cities of Reno and Sparks.
New Hampshire:
Belknap | Entire County.
Hillsborough | City of Manchester.
Strafford | Entire County.
New Jersey:
Atlantic | Entire County.
Camden | City of Camden.
Cape May | Entire County.
Cumberland | Cumberland County, Salem.
Essex | City of East Orange.
| Newark Central Ward; West Ward; North Ward (Verona Avenue to Orange Street and Lake Street to McCarter Highway); and Bakery Village.
| Cities of Montclair and Orange.
Glouster | Entire County.
Hudson | Union City. North Bergen, West N.Y., Weehawken, Guttenberg, Seacaucus.
Ocean | Lakewood Township.
Passaic | West Milford, Wayne, Ringwood, Bloomingdale, Little Falls, Haledon, Pompton Lakes, Hawthorne.
| Patterson, Prospect Park, and Clifton.
Sussex | Entire County.
Warren | Entire County.
Morris | Entire County.
New Mexico:
Bernalillo | Entire County.
Doña Ana | City of Las Cruces.
Lea | Hobbs and Lovington.
Navajo Nation | Navajo Reservation, Navajo School Board.
San Juan | The Alamo Navajo Reservation.
| Entire County, except the Alamo Navajo Reservation.
Santa Fe | Entire County.
Torrance | Entire County.
Sandoval | Bernalillo, Cuba, and Rio Rancho.
Cibola | Pueblo Laguna Reservation.
New York:
Bronx | (1) Spuyten Duyvil.
| (2) University Heights.
| (3) Fordham.
| (4) Riverdale.
| (5) Morris Heights.
| (6) Highbridge.
| (1) 3rd Ave. and Courtland Ave. through E. 161st Street; Grand Ave. through East Featherbed Lane; University Ave through West 182nd Street; East 146 Street through 156 Street; West on St Anns Ave and Union Ave;
| (2) Fulton Ave. to Park Ave.;
| (3) East 171st Street and Prospect Ave, through East 182nd;
| (4) East 183rd Street and East 187th St. to East Mosholu;
| (5) North on Longwood Ave. and Boston Rd and Jennings St.;
| (6) Charlotte St. and White Plains Rd;
| (7) Sedwick Ave. and Goulden Ave through West 242 St.;
| (8) West 183rd St. and Grand Concourse through Mosholu to Bruckner Blvd;
| (9) Mott Haven and Hunts Point (Community Board #1 & 2);
| (10) Spuyten Duyvil (Community Board #8) University Heights (Community Board #7).
Manhattan | (1) 125 St. to 218 St., Riverside Drive to Harlem River, Edgecomb Ave, St. Nicholas Ave; Washington Hgts: FDR Drive east, to Binery to the south; 14th Street to the West, North is bounded by East of Broad Street and South of 14th Street; and Lower East Side: East River across Delancey St. to Allen St., South on Allen St to Pike St to East River.
| (2) Lower East Side Manhattan bounded by 14th St., FDR Drive, and Bowery 125 St. to 218 St., Riverside Drive to Harlem River, Edgecomb Ave, St. Nicholas Ave; Washington Hgts: FDR Drive east, to Binery to the south; 14th Street to the West, North is bounded by East of Broad Street and South of 14th Street; and Lower East Side: East River across Delancey St. to Allen St., South on Allen St to Pike St to East River.
Kings | (1) Borough Park, Williamsburg, Crown Heights and Flatbush Staten Island : Park Hill, Clifton and Stapleton; Fort Green (Housing Projects Ingersol, Whitman, Farraget).
| (2) Teenage girls attending Board of Education LYFE program in Brooklyn; students live throughout the county.
Queens | Rockaway Peninsula.
Alleghany | Entire County.
Cattaraugus | Entire County.
Chautauqua | Entire County.
Chenango | Entire County.
Dutchess | Entire County.
Herkeimer | City of Herkeimer.
Monroe | City of Rochester.
Oneida | City of Rome.
Onondaga | City of Syracuse.
Rensselaer | Entire County.
Rockland | Spring Valley.
| The village of Haverstraw and outlying areas, the village of Nyak and outlying areas including Valley Cottage, Congeis, Piermont, and Sparkill.
Schenectady | City of Schenectady.
Seneca | Entire County.
Orange | Entire County.
Steuben | Entire County.
Yates | Entire County.
Sullivan | Entire County.
Wayne | Wolcott, Butller, Savannah, Huron, Rose Galen, Sodus, Lyons, Newark.
Westchester | Entire county, excluding the City of White Plains.
| City of White Plains.
Wyoming | Entire County.
Erie | In the City of Buffalo: Teen mothers and pregnant women attending the following High Schools: Bennett, Lafayette, Grover Cleveland, Emmerson Vocational, South Park, Riverside, Seneca, Kensington, Alternative, City of Schools, Performing Arts, Buffalo Traditional, Hutch Technical, McKinley, Burgard, and City Honors.
Orleans | Entire County.
Saratoga | Entire County.
Washington | Entire County.
Suffork/Nassau | Central Brookhaven, including Coram, Medford, No. Bellport, Seldon, and Ridge.
Madison | Entire County.
Otsego | Entire County.
North Carolina:
Buncombe | City of Ashville; Towns of Woodson, Emma, and Johnstown.
Caswell | Yanceyville and entire county.
Guilford | Greensboro.
| Entire County outside of Greensboro.
Macon | Entire County.
McDowell | Entire County.
Orange | Entire County.
Pamlico | Entire County.
Cateret | Entire County.
Craven | Entire County.
Jones | Entire County.
Rowan | Entire County.
Davison | Entire County.
Montgomery | Entire County.
Moore | Entire County.
Stanley | Entire County.
Transylvannia | Entire County.
Henderson | Entire County.
Union | Monroe.
Wayne | Entire County.
Cumberland | Fayetteville.
Rutherford | Entire County.
Ohio:
Adams | Entire County.
Brown | Entire County.
Clermont | Entire County.
Clark | Entire County.
Montgomery | City of Dayton.
Cuyahoga | City of Cleveland: Glenville, Hough, Detroit-Shoreway, Clark-Fulton; and City of East Cleveland.
Darke | Entire County.
Greene | Entire County.
Shelby | Entire County.
Miami | Entire County.
Hamilton | City of Cincinnati: Communities of Over-the-Rhine, Mount Auburn, Price Hill, West End, Bond Hill, Roselawn, Avondale, Millvale, and Walnut Hills.
Lake | Entire County.
Lawrence | Entire County.
Lorain | Towns of Lorain, Elyria, Oberlin, Wellington, Columbia Station, and South Amherst.
Medina | Entire County.
Wayne | Entire County.
Morgan | Entire County.
Washington | Entire County.
Pike | Entire County.
Preble | Entire County.
Richland | Entire County.
Summit | City of Akron: Communities of N. Akron, S. Akron, W. Akron, E. Akron.
Guernsey | Entire County.
Monroe | Entire County.
Noble | Entire County.
Fairfield | Entire County.
Mahoning | Youngstown, Canfield, Austintown, Campbell, Struthers, Boardman.
Oklahoma:
Choctaw | Entire County.
McCurtain | Entire County.
Pushmataha | Entire County.
Creek | Entire County.
Okmulgee | Entire County.
Tulsa | An area west of Peoria Avenue in Tulsa and the Arkansas River which parallels Highway 75.
| East Tulsa, Southwest Tulsa and North Tulsa.
Mays | Entire County.
Rogers | Entire County.
Wagner | Entire County.
Oklahoma | Oklahoma City: an area bounded by Meridian Avenue on the West, North 50th on the North, Bryant Avenue on the East, and South 44th on the South.
Payne | Entire County.
Seminole | Entire County.
Cleveland | Entire County.
Logan | Entire County.
Cherokee | Entire County.
Mayes | Entire County.
Craig | Entire County.
Potawatomi | The Sac, Fox and Absentee Shawnee Districts.
| Potawatomi Reservation, extending north to the North Canadian River, south to the South Canadian River, west to the Indian Meridian Line, and east to the county line.
Oregon:
Hood River | Cities of Hood River, Pine Grove, Parkland and surrounding areas.
Wasco | The city of Dalles and surrounding areas.
Jackson | City of Medford and metropolitan area; and the Illinois Valley.
Josephine | Entire County.
Multnomah | City of Portland bounded by N.E. Skidmore to the North, N.E. Tillamook to the South, 82nd Street to the East and the Willamette River to the West.
| City of Portland: bounded by the Willamette River on the West, the Columbia River on the North, Holgate Blvd on the South and N.E. 122nd Ave to the East (excluding the Enterprise Zone between N.E. Skidmore and N.E. Tillamook Streets; Within South—Holgate Blvd, East—NE 122 Ave, West-Willamette River, North—Columbia River and at the Jobs corp site in Troutsdale, OR.
| City of Portland: bounded by: Holgate Ave on the North; the Multnomah County line to the South, S.E. 45th St. to the West and 122nd Ave., to the East. After 122nd, the service area extends North to Burnside and out to S.E. 162nd Avenue. (Lents Junction).
| East Multnomah County, including City of Gresham, Towns of Troutdale, Wood Village, Fairview, Corbert, and the eastern edge of Portland and surrounding areas.
Umatilla | The communities of Pendleton, Hermiston, Umatilla and Stanfield.
Washington | City of Hillsboro, OR.
Jefferson | Warm Springs Indian Reservation.
Pennsylvania:
Allegheny | City of Pittsburgh including: Allentown, Arlington, Arlington Heights, Beltzhoover, Beechview, Brookline, Banksville, Carrick, Duquesne Heights, Glen Hazel, Greenfield, Hays, Hazelwood, Lincoln Place, Knoxville, Mt. Washington, Mt. Oliver, Overlook, St Clair Village, So. Side Flats, So. Side Slopes; and the County communities: Aspenwall, Blawnox, Cheswick, East Deer, Etna, Fox Chapel, Frazer, Harmar, Indiana, Millvale, Oakmont, O'Hara, Shaler, Sharpsburg, Springdale Borough, Springdale Township, Verona, West Deer.
| Towns of Terrace Village, Clairton, West Miflin, Elizabeth, McKees Rocks, and Stowe Township in the City of Pittsburgh.
Beaver | Entire County.
Bedford | Entire County.
Bradford | Entire County.
Tioga | Entire County.
Butler. | Entire County.
Centre | Entire county, including the community of Snow Shoe, and the surrounding area; and community of Milheim (Penn's Valley) and surrounding areas.
Clearfield | Entire county, including the Clearfield Borough and the surrounding community.
Fayette | Entire county, including the towns of Uniontown, Connellsville, and Brownsville.
Fulton | Entire County.
Huntingdon | Entire County.
Indiana | Entire County.
Lackawanna | Entire County.
Wayne | Entire County.
Pike | Entire County.
Susquehanna | Entire County.
Lehigh | Entire County.
Luzerne | Entire County.
Mercer | Entire County.
Snyder | Entire County.
Union | Entire County.
Mifflin | Entire County, including Lewistown, Reedsville, and surrounding area.
Philadelphia | (1) City of Philadelphia: Area enclosed by the Schuylkill River north to Girard Avenue, west on Girard to Parkside Avenue, north on Parkside Avenue to Belmont Avenue, south on Belmont to Westminster Avenue, west on Westminster to 50th Street, south on 50th Street to Spruce Street, east on Spruce to 45th Street and south on 45th Street to the Schuykill River.
| (2) City of Philadelphia: Pine Street on the north; Broad Street on the east, Philadelphia Naval Base on the South, Schuykill River on the west.
| (3) City of Philadelphia North Central Philadelphia Empowerment Zone -6th Street to 23rd Street and from Montgomery Street to Poplar Street.
| (4) City of Philadelphia: The area bounded on the North by Allegheny Avenue, on the South by Norris Street, on the East by 5th Street and on the West by 17th Street, excluding the North Philadelphia Empowerment Zone area.
Venango | Entire County.
Washington | Washington City, and Bentleyville.
Greene | Entire County.
Westmoreland | Entire County.
Dauphin | City of Harrisburg.
Rhode Island:
Bristol | Bristol, Warren and Barrington.
Newport | Entire County.
Providence | Town of E. Providence.
| 1. The City of Cranston.
| 2. City of Central Falls, South and Southwest Providence.
| 3. Towns of Burrillville, Johnston, N. Providence, Smithfield, N. Smithfield, Glocester, Scituate and Foster.
Kent | The City of Warwick and the towns of Coventry and W. Warwick.
South Carolina:
Bamberg | Olar, Bamberg City, Denmark, Ehrhardt.
Charleston | West Ashley, Downtown Charleston, and Charleston Nech Area.
Greenville | City of Greenville: Communities of Nicholtown (including the Jesse Jackson Town Homes), Woodland-Pierce Homes, and Parker District (including Monaghan, San Souci).
Lancas | Entire County.
Sparta | Entire County.
Sumter | City of Sumter: Sumter School District, Maysville, Dalzell, Wedgefield, Shaw AFB, Pinewood, Rembert, within the eastern section of Sumter County.
Anderson | Honeapat.
Pickens | City of Pickens.
Greenville | Pleasant Valley.
Beauford | St. Helena.
Jasper | Robertville.
South Dakota:
Brookings | Entire County.
Codington | Entire County.
Hamlin | Entire County.
Lake | Lake County.
Minnehaha | Entire County.
Moody | Entire County.
McCork | Entire County.
Clark | Entire County.
Deuel | Entire County.
Grant | Entire County.
Kingsbury | Entire County.
Miner | Entire County.
Butte | Towns of Belle Fourche, Fruitdale, Newell, Nisland and Vale.
Harding | Towns of Buffalo and Reva.
Perkins | Towns of Bison and Lemmon.
Hughes | Hughes County.
Hyde | Hyde County.
Jones | Jones County.
Mellette | Mellette County.
Stanley | Stanley County.
Sully | Sully County.
Meade | Cities of Black Hawk and Sturgis.
Pennington | The cities of: Box Elder, Ellsworth Air Force Base, Rapid City, Rapid Valley, New Underwood & Hill City.
Custer | Hermosa.
Fall River | Edgemont, Hot Springs.
Haakon | Philip Midland.
Jackson | Kadoka.
Lawrence | Deadwood, Lead, Spearfish.
Jackson | Pine Ridge Reservation.
Shannon | Pine Ridge Reservation.
Roberts | Lake Traverse Reservation.
Day | Lake Traverse Reservation.
Marshall | Lake Traverse Reservation.
Pennington | Rapid City and the communities of Fox Elder and Rapid Valley within the incorporated limits of Rapid City.
Clay | Entire County.
Lincoln | Entire County.
Turner | Entire County.
Union | Entire County.
Tennessee:
Anderson | Andersonville, Briceville, Claxton, Clinton, Dutch Valley, Fairview, Grand Oaks, Lake City, Norris, Norwood.
Carroll | Entire County.
Fayette | Entire County.
Lauderdale | Entire County.
Madison | Entire County.
Obion | Entire County.
Tipton | Entire County.
Bedford | Shelbyville city limits and 10 miles around Shelbyville.
Lawren | Lawrenceburg city limits and 10 miles around Lawrenceburg.
Giles | Pulaski city limits and 10 miles around Pulaski.
Hamilton | Communities of Soddy-Daisy, Cedar Hill, and the Avondale area of the City of Chattanooga.
Knox | North Knoxville.
Loudon | Entire County.
Roane | Entire County.
Shelby | Frayse, North Memphis, South Memphis, Midtown; Vincent, Alabaster, Columbiana.
Weakley | Entire County.
Gibson | Entire County.
Henry | Entire County.
Williamson | Franklin.
Wilson | Lebanon.
Cannon | Woodbury.
Cheatham | Ashland City.
Robertson | Springfield.
Rutherford | Murfresboro.
Sumner | Gallagin.
Trousdale | Hartsville.
Morgan | Entire County.
Texas:
Bextar | The City of San Antonio, an area on the Westside bounded by Woodlawn on the North, U.S. Highway 90 on the South, by Interstate 35 on the East and by Callahan on the West.
| The communities of Fredericksburg II, Circle North, New Westwood, Terrell Plaza, Fort Sam and Mount Zion.
Brazos | City of Bryan: bounded by an area on the North by West 28th Street, on the South by Beck Bryan, Texas (Brazos Street, on the East by Sims Street and on the West by Palasota Street.
Brooks | Falfurrias: (1) bordered by San Saba Street to the South, West Garret Street to the North, North Center Street to the East and North Chester Street to the West. (2) area bordered by East Lamar on the North, East Forrest Street on the South, North Lincoln on the East and North Williams Street on the West.
Brown | Entire county.
Burnet | City of Burnet.
Cameron | City of Harlingen: an area bounded by Harrison Street on the South, by Expressway 77 on the West, by F.M. 507 on the North and by F.M. 509 on the East.
Willacy | Brownsville, San Benito, Port Isabel, and Raymoudville.
Collin | McKinney Independent School District.
Dallas | City of Dallas: the communities of: (1) Pleasant Grove—an area bounded by I-635 on the North and East, I-45 on the South and I-30 on the West); and (2) West Dallas—an area bounded by the Trinity River on the north, I-30 on the south, Jefferson Boulevard on the east, and Loop 12 on the west.
| City of Dallas: the communities of: (1) Irving—an area bounded by Walnut Hill Rd on the north, Hunter Ferrel St. on the south, Walton Walker (Loop 12) on the east and Beltline Rd on the west. (2) North Oak Cliff—an area bounded by I-30 on the north, Ledbetter (Loop 12) on the South, I-35 on the east and Westmoreland Rd. on the west.
Duval | City of San Diego.
El Paso | Rural communities of Fabens, San Elizario, Clint, Canitillo, and the following areas in the city limits of El Paso: (1) Socorro/Sparks: an area bounded by Horizon City on the north, I-10 on the South, Bufford Road on the east and Avenue of the Americas on the south. (2) Northeast: an area bounded by New Mexico state line on the north, Montana Avenue on the south, Loop 375 on the east and Patriot on the west. (3) Ysleta—an area bounded by I-10 on the north, Border Freeway on the south, Avenue of the Americas on the east and Delta Drive on the west. (4) Central Area—an area bounded by Montana Avenue on the north, Mexico border on the south, Alameda Avenue on the east and Paisano Avenue on the west.
Fort Bend | Cities of Richmond and Missouri City.
Garza | Entire County.
Gray | Entire County.
Harris | City of Houston, service areas bordered by: Tidwell on the North, Hardy and Maury on the East, Yale and Studewood on the West and IH-10 on the South; also known as Fifth Ward.
| City of Humble, service area bordered by: North to Montgomery County line, East to the middle of Lake Houston, South to Beltway 8, and West to McKay Boulevard up to Spring Creek where it intersects the Montgomery County line.
| Communities of Galena Park and Jacinto City & City of Houston, service area bordered by: North to East Fork of the San Jacinto River, East to Liberty County, South to the North side of Indian Shores and West to the middle of Lake Houston.
| City of Houston, service area bordered by: (1) Clinton Drive on the South, Lockwood on the East, Cavalcade on the North, and I-59 on the West; (2) North from the intersection of Green's Bayou and Highway 90 extending Eastward to Carpenter's Bayou, on the East by Carpenter's Bayou, on the South by the Houston Ship Channel, also known as Buffalo Bayou. West from the Houston Ship Channel Northward along Fidelity Road, turning Eastward to intersect with Oates Road, proceeding North on Oates Road to the T&NO Railroad line, then East along the T&NO Railroad parallel to Market Street, to Green's Bayou and Northward along Green's Bayou to intersect Highway 90.
| City of Houston, service area bordered by: Highway 59 to the North, Chimney Rock Road to the East, Bellaire Blvd. to the South and Hillcroft Street to the West.
Hays | Entire County.
Hood | Cities of: Granbury, Cresson, Lipan and Paluxy.
Erath | Entire County.
Palo Pinto | Entire County.
Hutchinson | Entire County.
Jim Hogg | City of Hebbronville.
Jim Wells | City of Alice: an area bordered by Loma Street on the North, on the East by Texas Blvd., on the South by Hill Street and on the West by Cameron Street; an area bounded by Sain Street on the North, Sea Breeze on the South, Texas Blvd. on the West and Stadium Road on the East.
Kleberg | City of Kingsville: (1) an area bordered by Corral Road on the South, Armstrong Road on the East, University Blvd. on the West and Avenue F on the North; (2) W. General Cavos on the South, Sixth Street to the West, Fourteen Street to the East and Aisle Avenue to the North.
Lubbock | City of Lubbock: The Cherry Point neighborhood bordered by Loop 289 and East Municipal Drive in the North, East Broadway on the South, East Idalou Road on the East, and Yellowhouse Canyon on the West.
Mclennan | Eligible residents of an empowerment zone in the City of Waco identified as East Waco, and nearby North and South sections of the city.
Houston | Entire County.
Nacogdoches | Entire County.
Nueces | Entire County.
Potter | Entire County.
| Amarillo School District Boundaries (teen parents within the School District).
Randall | Entire County.
| Amarillo School District Boundaries (teen parents within the School District).
Scurry | Entire County.
Starr | Rio Grande City.
Taylor | Abilene Independent School District.
Titus | Entire County.
Tom Green | Entire County.
Travis | Entire County.
Uvalde | Entire County.
Williamson | Cities of Taylor, Georgetown, and Leander.
Zapata | Zapata City.
Zavala | Entire County.
Grayson | Entire County.
Rockwall | Entire County.
Brazoria | Entire County.
Nolan | Entire County.
Utah:
Carbon | City of Price.
Grand | City of Moab.
San Juan | City of Blanding.
Davis | Davis County School District Boundary.
Box Elder | Brighman City, Fielding, Garden City, Garland, Thatcher, and Tremonton.
Cache | College Ward, Hyde Park, Hyrum, Logan, Mendon, Millville, Nibley, North Logan, Richmond, River Heights, Smithfield, and Wellsville.
Navajo Nation | Navajo Reservation, Navajo School Board.
Utah | Entire County.
Vermont:
Caledonia | Entire County.
Franklin | Entire County.
Essex | Entire County.
Orleans | Entire County.
Lamoille | Entire County.
Orange | Entire County.
Washington | Entire County.
Windham | Entire County.
Virginia:
Buchanan | City of Bristol.
Dickerson | Entire County.
Russell | Entire County.
Washington | Entire County.
Fairfax | Cities of Fairfax , Falls Church, and South Fairfax County from I-495 to Prince William County.
Arlington | City of Alexandria: (Rt.1 Corridor).
Isle of Wight | City of Franklin.
York | City of Williamsburg and James City.
Prince William | Manassas and Manassas Park.
Roanoke | City of Roanoke.
Newport News | City of Newport News: from Jefferson Street east.
Wise | Towns of Esserville and Appalachia.
Washington:
Chelan | Entire County.
Douglas | Entire County.
Clark | Clark County.
Ferry | The communities of: Metaline Falls, Newport, Loon Lake, Colville, Kettle Falls, Northport and Republic.
Pend Oreille | Entire County.
Steven | Entire County.
Grant | Entire County.
Island | Entire County.
Skagit | Entire County.
San Juan | Entire County.
King | City of Seattle: Ballard, and West Seattle; East: Lake Washington, West: Puget Sound, North: 145th Street, Southwest: Roxbury Street, Southeast: Juniper Street. This service area excludes the garden communities of Holly Park, Yesler Terrace, Rainer Vista and High Point.
| City of Seattle: Central District of Seattle bounded on the North by East Madison St and Lake Washington Blvd, on the South by Interstate 90, on the East by Lake Washington and on the West by Rainier Avenue South, South Main Street, Interstate 5, James Street and 12th Avenue.
| City of Seattle: Yesler Terrace, Holly Park, High Point, Rainer Vista PHD's.
| Communities of Kent, Renton, Auburn, Skyway, Tukwila, Southeast King County, and Federal Way.
Kitsap | South Kitsap School District (Discovery High School) and Olympic College.
Klickitat | Entire County
Pierce | School Districts: Clover Park School District; the Bethel School District; Pennisula School District; the Tacoma School District (Oakland Alternative High School) and the Woman's Correctional Center in Purdy, Washington.
Snohomish | The City of Everett: 1. Area #1: north of 42nd Street, west of Marine View Drive, South of Highway 529 and east of Puget Sound; 2. Area #2: South of Casina Road, West of Mukulteo Speedway, east of Meridian Drive and North of Stickney Drive.
Spokane | The City of Spokane and surrounding metropolitan area; and students attending Community Colleges of Spokane.
Whatcom | Entire County.
Yakima | Towns of Grandview, Sunnyside, Mabtou, Granger, Toppenish, and White Swan.
Kitsap | Port Madison Indian Reservation and immediate surrounding area.
| Port Gamble S'Klallam Reservation and immediate surrounding area.
Jefferson | Entire County.
Clallam | Entire County.
Wyoming:
Big Horn | Entire County.
Hot Springs | Entire County.
Washakie | Entire County.
Converse | Entire County.
Goshen | Entire County.
Natrona | Cities of Casper, Evansville, Mills and Paradise Valley.
Niobrara | Entire County.
Fremont | Wind River Indian Reservation and surrounding areas.
Platte | Entire County.
Campbell | Entire County.
Teton | Entire County.
Sublette | Entire County.
District of Columbia:
| (1) Ward One an area enclosed by: Northeast—Spring Road, Northwest—Piney Branch Parkway, East—Michigan Avenue to Florida Avenue, Southeast—S Street, West—Rock Creek;
| (2) In Ward Two an area enclosed by: Northeast—New Jersey, Florida Avenue and S Street, Northwest—Florida Avenue, East—Florida Avenue and Southwest Freeway, Southeast—Anacostia River, West—Potomac River;
| (3) In Ward Four an area enclosed by: Northeast—Eastern Avenue, Northwest—Western Avenue, Southeast—Michigan Avenue, Southwest—Rock Creek;
| (4) In Ward Five an area enclosed by: Northeast—Eastern Avenue, Northwest—South Dakota, Southeast—Anacostia River, Southwest—Florida Avenue, West—Harewood Road;
| (1) Ward One an area enclosed by: Northeast—Spring Road, Northwest—Piney Branch Parkway, East—Michigan Avenue to Florida Avenue, Southeast—S Street, West—Rock Creek;
| (2) In Ward Two an area enclosed by: Northeast—New Jersey, Florida Avenue and S Street, Northwest—Florida Avenue, East—Florida Avenue and Southwest Freeway, Southeast—Anacostia River, West—Potomac River;
| (3) In Ward Four an area enclosed by: Northeast—Eastern Avenue, Northwest—Western Avenue, Southeast—Michigan Avenue, Southwest—Rock Creek;
| In Ward Five an area enclosed by: Northeast—Eastern Avenue, Northwest—South Dakota, Southeast—Anacostia River, Southwest—Florida Avenue, West—Harewood Road;
| Sections of Wards One, Two and Four, which include the areas of Shepherd Park, Upper Cordoza, Adams Morgan and Mount Pleasant.
Commonwealth of Puerto Rico:
Municipality of Carolina | Carolina.
Municipality of Cayey | Cayey.
Municipality of Ceiba | Ceiba.
Municipality of Cidra | Cidra.
Municipality of Coamo | Las Flores.
Municipality of Humacao | Humacao.
Municipality of Junco | Juncos.
Municipality of Loiza | Loiza.
Municipality of Juncos | Entire Municipality.
Municipality of Canavanas | Barrio Cubny.
Municipality of Rio Grande | Entire Municipality.
Municipality of Ceiba | Entire Municipality.
Municipality of Naguabo | Entire Municipality.
Municipality of Luquillo | Luquillo.
Municipality of Ponce | Ponce.
Municipality of Rio Grande | Rio Grande.
Municipality of San Juan | San Juan (Cantera). Trujillo Alto, Cayey, Aibonito and surrounding areas. Barrios: Hato Rey Norte, Cupey, Caimito, and Tortuga; and the sub-barrios of Puerto Nuevo, Nemesio R. Canales Public Housing Project.
Municipality of Toa | Toa Baja.
Municipality of Trujillo Alto | Trujillo Alto.
Municipality of Vega Alta | Vega Alta (Muachauchal and Santa Ana).
Municipal Government of Santa Isabel | Santa Isabel.
Municipality of Bayamon | Bayamon.
Municipality of Barceloneta | Barceloneta.
Municipality of Guaynabo | Guaynabo.
Municipality of Sabana Grande | Sabana Grande.
Municipality of Caguas | Caguas.
Municipality of Arecibo | Barrios of Hato Abajo, Obrero and Arecibo; sub-barrios of San Jose, Los Heides, La Puntilla, Vigia, Buenos Aires, Magallenos, and Santana.

Appendix B—Estimate of Funds Available in States

State | Allocation
Alabama | $863,000
Alaska | 500,000
Arizona | 1,541,000
Arkansas | 500,000
California | 5,470,000
Colorado | 500,000
Connecticut | 500,000
Delaware | 500,000
Florida | 1,436,000
Georgia | 1,031,000
Hawaii | 500,000
Idaho | 500,000
Illinois | 755,000
Indiana | 758,000
Kansas | 500,000
Kentucky | 500,000
Louisiana | 1,478,000
Maryland | 927,000
Massachusetts | 500,000
Michigan | 500,000
Minnesota | 745,000
Mississippi | 500,000
Missouri | 577,000
Montana | 500,000
Nevada | 500,000
New Hampshire | 500,000
New Jersey | 600,000
New Mexico | 500,000
New York | 3,222,000
North Carolina | 1,104,000
Ohio | 1,369,000
Oklahoma | 592,000
Oregon | 500,000
Pennsylvania | 1,245,000
Puerto Rico | 2,206,000
South Carolina | 998,000
Tennessee | 500,000
Texas | 3,249,000
Utah | 500,000
Virginia | 1,296,000
Washington | 573,000
West Virginia | 500,000
Wisconsin | 843,000
American Indian Program | 1,200,000
The following States will compete in a multi-state pool of $2,600,000:
District of Columbia, Iowa, Maine, Nebraska, North Dakota, Outer Pacific, Rhode Island, South Dakota, Vermont, Virgin Islands, and Wyoming.
Total | 46,678,000

[FR Doc. 01-5481 Filed 3-6-01; 8:45 am]

BILLING CODE 4184-01-P